DEPARTMENT OF HEALTH AND HUMAN SERVICES

Meeting of the 2018 Physical Activity Guidelines Advisory Committee

AGENCY: U.S. Department of Health and Human Services, Office of the Secretary, Office of the Assistant Secretary for Health, Office of Disease Prevention and Health Promotion.

ACTION: Notice.

SUMMARY: As stipulated by the Federal Advisory Committee Act (FACA), the U.S. Department of Health and Human Services (HHS) is hereby giving notice that the third meeting of the 2018 Physical Activity Guidelines Advisory Committee (2018 PAGAC or Committee) will be held. This meeting will be open to the public via videocast.

DATES: The meeting will be held on March 23, 2017, from 8:00 a.m. E.T. to 5:30 p.m. E.T.

ADDRESSES: The meeting will be accessible by videocast on the Internet.

FOR FURTHER INFORMATION CONTACT: Designated Federal Officer, 2018 Physical Activity Guidelines Advisory Committee, Richard D. Olson, M.D., M.P.H. and/or Alternate Designated Federal Officer, Katrina L. Piercy, Ph.D., R.D., Office of Disease Prevention and Health Promotion (ODPHP), Office of the Assistant Secretary for Health (OASH), HHS; 1101 Wootton Parkway, Suite LL-100; Rockville, MD 20852; Telephone: (240) 453-8280. Additional information is available at www.health.gov/paguidelines.

SUPPLEMENTARY INFORMATION: The inaugural Physical Activity Guidelines for Americans (PAG), issued in 2008, represents the first comprehensive guidelines on physical activity issued by the federal government. The PAG serves as the benchmark and primary, authoritative voice of the federal government for providing science-based guidance on physical activity, fitness, and health for Americans. Five years after the first edition was released, ODPHP, in collaboration with the Centers for Disease Control and Prevention (CDC), the National Institutes of Health (NIH), and the President's Council on Fitness, Sports, and Nutrition (PCFSN) led development of the PAG Midcourse Report: Strategies to Increase Physical Activity Among Youth. The second edition of the PAG will build upon the first edition and provide a foundation for federal recommendations and education for physical activity programs for Americans, including those at risk for chronic disease.

Appointed Committee Members: The Secretary of HHS appointed 17 individuals to serve as members of the 2018 PAGAC in June 2016. Information on Committee membership is available at www.health.gov/paguidelines/second-edition/committee/.

Committee's Task: The work of the 2018 PAGAC will be time-limited and solely advisory in nature. The Committee will develop recommendations based on the preponderance of current scientific and medical knowledge using a systematic review approach. The Committee will examine the current PAG, take into consideration new scientific evidence and current resource documents, and develop a scientific report to the Secretary of HHS that outlines its science-based advice and recommendations for development of the second edition of the PAG. The Committee will hold approximately five public meetings to review and discuss recommendations. The first meeting was held in July 2016 and the second in October 2016. It is anticipated that future meetings will be held in the third weeks of July 2017 and October 2017. Meeting dates, times, locations, and other relevant information will be announced at least 15 days in advance of each meeting via Federal Register notice. As stipulated in the charter, the Committee will be terminated after delivery of its report to the Secretary of HHS or two years from the date the charter was filed, whichever comes first.

Purpose of the Meeting: In accordance with FACA and to promote transparency of the process, deliberations of the Committee will occur in a public forum. At this meeting, the Committee will continue its deliberations from the last public meeting.

Meeting Agenda: The meeting will include review of subcommittee work since the last public meeting and deliberation by the full Committee, discussion of overarching issues, and plans for future Committee work.

Meeting Registration: The meeting is open to the public via videocast; pre-registration is required. To register, please visit www.health.gov/paguidelines. After registration, individuals will receive videocast access information via email. To request a special accommodation, please email jennifer.gillissen@kauffmaninc.com.

Public Comments and Meeting Documents: Written comments from the public will be accepted throughout the Committee's deliberative process and can be submitted and/or viewed at www.health.gov/paguidelines/pcd/. Documents pertaining to Committee deliberations, including meeting agendas and summaries will be available on www.health.gov/paguidelines. Meeting information, thereafter, will continue to be accessible online and upon request at the Office of Disease Prevention and Health Promotion, OASH/HHS; 1101 Wootton Parkway, Suite LL100 Tower Building; Rockville, MD 20852; Telephone: (240) 453-8280; Fax: (240) 453-8281.

Dated: February 23, 2017.
Don Wright,
Deputy Assistant Secretary for Health, Disease Prevention and Health Promotion.

[FR Doc. 2017-04170 Filed 3-3-17; 8:45 am]

BILLING CODE 4150-32-P